ENVIRONMENTAL PROTECTION AGENCY

[FRL-6856-3]

Withdrawal of Request for Comment on Renewal Information Collections for the Notification of Episodic Releases of Oil and Hazardous Substances; and the Continuous Release Reporting Regulations (CRRR) Under the Comprehensive Environmental Response, Compensation, and Liability Act of 1980 (CERCLA)

AGENCY: Environmental Protection Agency (EPA).

ACTION: Notice.

SUMMARY: The Environmental Protection Agency (EPA) is announcing that it has withdrawn the following notices published in the Federal Register (June 13, 2000) that solicited comment on EPA's request to renew existing ICRs: Notification of Episodic Release of Oil and Hazardous Substances (EPA ICR No. 1049.09, OMB No. 2050-0046) (65 FR 37128); and Continuous Release Reporting Regulations (CRRR) under the Comprehensive Environmental Response, Compensation, and Liability Act of 1980 (CERCLA) (EPA ICR No. 1445.05, OMB No. 2050-0086) (65 FR 37131).

FOR FURTHER INFORMATION CONTACT: Lynn Beasley, (703) 603-9086. Facsimile number: (703) 603-9104. Electronic address: beasley.lynn@epa.gov. Comments should not be submitted to this contact person.

SUPPLEMENTARY INFORMATION:

I. Why Are the Requests for Comment Withdrawn?

The EPA has withdrawn the request for comment so that it may include more information in each of the Information Collection Requests before asking the public to comment and so that it may issue another notice to give the public a 60 day period for comment.

II. Does EPA Intend To Renew the Existing ICRs?

Yes, EPA plans to submit the continuing Information Collection Requests (ICRs) to the Office of Management and Budget (OMB): Notification of Episodic Releases of Oil and Hazardous Substances (EPA ICR No. 1049.09, OMB No. 2050-0046); and Continuous Release Reporting Regulations (CRRR) under the Comprehensive Environmental Response, Compensation, and Liability Act of 1980 (CERCLA)(EPA ICR No. 1445.05, OMB No. 2050-0086).

III. When Will the Comment Period Begin?

EPA will announce its plan to submit the Information Collection Request in subsequent Federal Register notices. The subsequent Federal Register notices will also include detailed Agency milestones and a schedule for completion of the renewal process for each Information Collection Request.

Dated: August 15, 2000.
Larry G. Reed,
Acting Director, Office of Emergency and Remedial Response.

[FR Doc. 00-21380 Filed 8-21-00; 8:45 am]

BILLING CODE 6560-50-P